ENVIRONMENTAL PROTECTION AGENCY

[EPA-HQ-OPP-2018-0657; FRL-9983-98]

Pesticide Registration Maintenance Fee: Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants through Pesticide Registration Maintenance Fee responses to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registrations have been cancelled only if such sale, distribution, or use is consistent with the terms as described in the final order.

DATES: Comments must be received on or before November 19, 2018.

ADDRESSES: Submit your comments, identified by docket identification (ID) number EPA-HQ-OPP-2018-0657, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

Submit written withdrawal request by mail to: Information Technology and Resources Management Division (7502P), Office of Pesticide Programs, Environmental Protection Agency, 1200 Pennsylvania Ave. NW, Washington, DC 20460-0001. ATTN: Michael Yanchulis.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Yanchulis, Information Technology and Resources Managements Division (7502P), Office of Pesticide Programs, Environmental Protection Agency, 1200 Pennsylvania Ave. NW, Washington, DC 20460-0001; telephone number: (703) 347-0237; email address: yanchulis.michael@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by the Agency of requests from registrants to cancel 200 pesticide products registered under FIFRA section 3 (7 U.S.C. 136a) or 24(c) (7 U.S.C. 136v(c)). These registrations are listed in sequence by registration number (or company number and 24(c) number) in Table 1 of this unit.

Unless the Agency determines that there are substantive comments that warrant further review of the requests or the registrants withdraw their requests, EPA intends to issue an order in the Federal Register canceling all of the affected registrations.

Table 1—Registrations With Pending Requests for Cancellation
Registration No. | Company No. | Product name | Chemical name
100-1053 | 100 | Havoc Rodenticide Bait Pack Pellets with Bitrex | Brodifacoum.
100-1054 | 100 | Havoc Rodenticide Bait Pack Mini-Pellets with Bitrex | Brodifacoum.
100-1065 | 100 | Scimitar WP Insecticide in Water-Soluble Packs | lambda-Cyhalothrin.
100-1082 | 100 | Demand Pestab Insecticide | lambda-Cyhalothrin.
100-1142 | 100 | Mesotrione/acetochlor 3.5 CS | Mesotrione; Acetochlor.
100-1152 | 100 | Lumax Selective Herbicide | Mesotrione; Atrazine; S-Metolachlor.
100-1174 | 100 | Impasse Termite Bait | Lufenuron.
100-1181 | 100 | Zyrox Plus Termite Baiting Technology | Lufenuron.
100-1201 | 100 | Lexar Herbicide | Mesotrione; Atrazine; S-Metolachlor.
100-1257 | 100 | Lufenuron Termite Bait | Lufenuron.
100-1396 | 100 | Flexstar Gt Manufacturing Use Concentrate | Glyphosate; Sodium salt of fomesafen.
100-1436 | 100 | Derby | Thiamethoxam; lambda-Cyhalothrin.
100-1542 | 100 | Zyrox SC | Cyantraniliprole.
228-689 | 228 | MSM E-Pro 60 EG Herbicide | Metsulfuron.
228-702 | 228 | Nufarm Prosedge Selective Herbicide | Halosulfuron-methyl.
264-1075 | 264 | Wolverine Herbicide | Bromoxynil octanoate; Bromoxynil heptanoate; Fenoxaprop-p-ethyl; Pyrasulfotole Technical.
264-1103 | 264 | Atlantis Herbicide | Mesosulfuron-methyl; Iodosulfuron-methyl-sodium.
270-307 | 270 | Farnam Pet Spray 549 | MGK 264; Pyrethrins; Pyriproxyfen.
400-583 | 400 | Captan Technical | Captan.
400-599 | 400 | Flupro-Technical | Flumetralin.
432-1232 | 432 | Chipco 26019 75WDG Brand Fungicide | Iprodione.
432-1568 | 432 | Plainview Herbicide | Aminocyclopyrachlor; Sulfometuron; Chlorsulfuron.
432-1577 | 432 | Lineage HWC Herbicide | Imazapyr; Sulfometuron; Metsulfuron.
432-1579 | 432 | Lineage Prep Herbicide | Imazapyr; Sulfometuron; Metsulfuron.
875-41 | 875 | Diversol CX with Arodyne | Sodium hypochlorite.
875-95 | 875 | Low Temperature Sanitizer W500l | Sodium hypochlorite.
875-182 | 875 | Divosan X-Tend | Phosphoric acid.
875-185 | 875 | Pro-Kleen | Phosphoric acid; Dodecylbenzenesulfonic acid.
1015-67 | 1015 | Douglas Pyrethrin 5 | MGK 264; Piperonyl butoxide; Pyrethrins.
2596-86 | 2596 | Hartz 2 in 1 Flea & Tick Dip for Dogs with Pyrethrin | MGK 264; Piperonyl butoxide; Pyrethrins.
2724-640 | 2724 | Speer Neoperm Wasp & Hornet Killer #1 | Piperonyl butoxide; Permethrin; Tetramethrin.
2724-646 | 2724 | Speer Neoperm Crawling Insect Killer IV | Piperonyl butoxide; Permethrin; Tetramethrin.
3862-135 | 3862 | Drop Dead | Propoxur; MGK 264; Piperonyl butoxide; Pyrethrins.
3862-156 | 3862 | Microbiocide LD-5 | Potassium dimethyldithiocarbamate.
5383-88 | 5383 | Troysan Polyphase 588 | Carbamic acid, butyl-, 3-iodo-2-propynyl ester; Irgarol 1051.
5383-102 | 5383 | Mergal S90 | Carbendazim; Octhilinone; Irgarol 1051.
5383-115 | 5383 | Polyphase 3000 | Carbamic acid, butyl-, 3-iodo-2-propynyl ester.
5383-167 | 5383 | Nuosept Bit Technical | 1,2-Benzisothiazolin-3-one.
5736-102 | 5736 | Super-Bol | Quaternary Ammonium Compounds.
5813-52 | 5813 | Ultra Clorox Brand 6.15% Bleach | Sodium hypochlorite.
9198-70 | 9198 | The Andersons Weed & Feed | 2,4-D, dimethylamine salt.
9198-79 | 9198 | The Andersons Tee Time Fertilizer with 1.15% Team | Benfluralin; Trifluralin.
9198-111 | 9198 | The Andersons 1.0% Bayleton(R) Fungicide | Triadimefon.
9198-184 | 9198 | Andersons Golf Products Kog Weed Control | Dicamba.
9198-201 | 9198 | High K Fertilizer with TGR POA Annual Control | Paclobutrazol.
9198-216 | 9198 | The Anderson's 0.058% Granular Bifenthrin Insecticide | Bifenthrin.
11556-164 | 11556 | Americare Rabon Flea & Tick Collar for Dogs | Gardona (cis-isomer).
11556-165 | 11556 | Americare Rabon Flea & Tick Collar for Cats | Gardona (cis-isomer).
28293-146 | 28293 | Unicorn Concentrated Flea and Tick Dip | MGK 264; Piperonyl butoxide; Pyrethrins.
28293-158 | 28293 | Unicorn Knockdown Spray | MGK 264; Permethrin; Pyrethrins.
28293-161 | 28293 | Unicorn Home Fogger | MGK 264; Permethrin; Pyrethrins.
28293-214 | 28293 | Unicorn IGR Total Release Fogger | MGK 264; Permethrin; Pyriproxyfen; Pyrethrins.
53883-245 | 53883 | Diuron 4L Algaecide | Diuron.
55146-150 | 55146 | NUP-12103 Bulk Product | Azoxystrobin; Propiconazole.
60063-27 | 60063 | Sipcam Propiconazole 1.3ME | Propiconazole.
66222-96 | 66222 | Diuron 90DF | Diuron.
66222-170 | 66222 | Rotary 2 SL | Imazapyr, isopropylamine salt.
66330-377 | 66330 | Thifensulfuron + Tribenuron 4:1 Herbicide Tank Mix | Thifensulfuron.
66330-378 | 66330 | Thifensulfuron + Tribenuron 2:1 Herbicide Tank Mix | Thifensulfuron; Tribenuron-methyl.
66330-405 | 66330 | Raze Herbicide | Fluroxypyr 1-methylheptyl ester; Flucarbazone-sodium.
66330-426 | 66330 | Dicamba Technical | Dicamba.
66330-427 | 66330 | Dicamba Technical B | Dicamba.
67619-7 | 67619 | CPPC Ultra Bleach | Sodium hypochlorite.
68156-4 | 68156 | Dintec HFP Trifluralin | Trifluralin.
69681-33 | 69681 | Clor Mor Multishock Plus | Sodium dichloro-s-triazinetrione.
69681-34 | 69681 | Clor Mor Triple-Action Chlorinating Tabs | Trichloro-s-triazinetrione; Boron sodium oxide (B4Na2O7), pentahydrate.
70627-4 | 70627 | Johnson CRS | Sodium hypochlorite.
70627-51 | 70627 | Raid Commercial Flying Insect Killer | Piperonyl butoxide; Tetramethrin.
70627-61 | 70627 | Multi-Surface Antibacterial | L-Lactic acid.
70627-76 | 70627 | Windex Multi-Surface Disinfectant | L-Lactic acid.
72155-10 | 72155 | Merit 0.005% PM Plus Fertilizer | Imidacloprid.
72155-34 | 72155 | Beta-Cyfluthrin 0.05% Fire Ant Granular Insecticide | beta-Cyfluthrin.
72155-44 | 72155 | Merit 0.2 Granular Insecticide | Imidacloprid.
72155-61 | 72155 | Tebuconazole 1.0% + Merit 0.2% Concentrate Fungicide/Insecticide | Tebuconazole; Imidacloprid.
72155-89 | 72155 | Lawn 3FL Herbicide Concentrate/Ready-To-Spray | 2,4-D, dimethylamine salt; Mecoprop-P; Dicamba, potassium salt; Indaziflam.
72155-90 | 72155 | Lawn 3FL Herbicide Ready-To-Use | 2,4-D, dimethylamine salt; Mecoprop-P; Dicamba, potassium salt; Indaziflam.
72155-104 | 72155 | Lawn 3FL2 Herbicide Concentrate/Ready-To-Spray | 2,4-D, dimethylamine salt; Mecoprop-P; Dicamba, potassium salt; Indaziflam.
72155-105 | 72155 | Lawn 3FL2 Herbicide Ready-To-Use | 2,4-D, dimethylamine salt; Mecoprop-P-potassium; Dicamba, potassium salt; Indaziflam.
72304-8 | 72304 | Clortram F-54 | Chlorothalonil.
83070-10 | 83070 | Eject 4L | Quinclorac.
85588-11 | 85588 | Pysonex Herbicide | Pyrithiobac-sodium.
AL170004 | 352 | Dupont Fexapan Herbicide | Dicamba, diglycolamine salt.
AR080014 | 352 | Dupont Firstshot SG Burndown Herbicide | Thifensulfuron; Tribenuron-methyl.
AR100005 | 8033 | Confirm 2F Agricultural Insecticide | Tebufenozide.
AR120008 | 59639 | V-10142 AG Herbicide | Imazosulfuron.
AR130010 | 352 | Dupont Realm Q Herbicide | Mesotrione; Rimsulfuron.
AR140004 | 8033 | Intruder Brand Insecticide | Acetamiprid.
AR940002 | 59639 | Valent Bolero 8 EC | Thiobencarb.
AR940003 | 59639 | Valent Bolero 8 EC | Thiobencarb.
AR950004 | 59639 | Valent Bolero 8 EC | Thiobencarb.
AZ110002 | 7173 | Difethialone Paste Place Packs | Difethialone.
AZ120003 | 10163 | Intruder Brand Insecticide | Acetamiprid.
AZ170005 | 8033 | Assail 70WP Insecticide | Acetamiprid.
CA040027 | 5481 | Alco Citrus Fix | 2,4-D, isopropyl ester.
CA100007 | 34704 | Liqui-Stik Concentrate | Ammonium 1-naphthaleneacetate.
CA930003 | 59639 | Valent Bolero 8 EC | Thiobencarb.
CA930013 | 5481 | Tre-Hold Sprout Inhibitor A112 | Ethyl 1-naphthaleneacetate.
CA990022 | 352 | Dupont Asana XL Insecticide | Esfenvalerate.
FL030004 | 100 | Fulfill | Pymetrozine.
FL040006 | 100 | Fulfill Insecticide | Pymetrozine.
FL930010 | 59639 | Valent Bolero 8 EC | Thiobencarb.
GA110002 | 100 | Ridomil Gold SL | Metalaxyl-M.
GA170003 | 352 | Dupont Fexapan Herbicide | Dicamba, diglycolamine salt.
GA990005 | 5481 | Vapam HL Soil Fumigant | Metam-sodium.
HI120004 | 100 | Evik 80 WDG | Ametryn.
ID000010 | 100 | Fulfill | Pymetrozine.
ID060007 | 241 | Prowl H2O Herbicide | Pendimethalin.
ID080006 | 66330 | Evito 480 SC Fungicide | Fluoxastrobin.
ID090016 | 5481 | Orthene 97 | Acephate.
ID110005 | 59639 | Metconazole 50 WDG Fungicide | Metconazole.
ID960008 | 7969 | Basagran Herbicide | Sodium bentazon.
IN110002 | 100 | Ridomil Gold SL | Metalaxyl-M.
KY140038 | 100 | Ridomil Gold SL | Metalaxyl-M.
LA010003 | 59639 | Valent Bolero 8 EC | Thiobencarb.
LA070001 | 241 | Scepter 70 DG Herbicide | Imazaquin.
LA120001 | 352 | Dupont Dermacor X-100 Seed Treatment | Chlorantraniliprole.
LA120016 | 241 | Prowl H2O Herbicide | Pendimethalin.
LA140002 | 8033 | Intruder Brand Insecticide | Acetamiprid.
LA950005 | 59639 | Valent Bolero 8 EC | Thiobencarb.
ME100001 | 50534 | Bravo ZN | Chlorothalonil.
MI040001 | 50534 | Bravo 720 | Chlorothalonil.
MI040002 | 50534 | Bravo ZN | Chlorothalonil.
MI100002 | 50534 | Bravo Weather Stik | Chlorothalonil.
MI120001 | 50534 | Bravo 720 | Chlorothalonil.
MI130004 | 100 | Cannonball WP | Fludioxonil.
MN030006 | 50534 | Bravo Weatherstik | Chlorothalonil.
MN030007 | 50534 | Bravo Ultrex | Chlorothalonil.
MN030008 | 50534 | Bravo ZN | Chlorothalonil.
MN080002 | 66330 | Malathion 5 EC | Malathion.
MO030005 | 59639 | Valent Bolero 8 EC | Thiobencarb.
MO130001 | 352 | Dupont Realm Q Herbicide | Mesotrione; Rimsulfuron.
MO930007 | 59639 | Valent Bolero 8 EC | Thiobencarb.
MO940005 | 59639 | Valent Bolero 8 EC | Thiobencarb.
MO950002 | 59639 | Valent Bolero 8 EC | Thiobencarb.
MS120006 | 352 | Dupont Realm Q Herbicide | Mesotrione; Rimsulfuron.
MS140006 | 8033 | Intruder Brand Insecticide | Acetamiprid.
MS930009 | 59639 | Valent Bolero 8 EC | Thiobencarb.
MS930010 | 59639 | Valent Bolero 8 EC | Thiobencarb.
MS950007 | 59639 | Valent Bolero 8 EC | Thiobencarb.
MT030008 | 100 | Fulfill | Pymetrozine.
MT080003 | 39039 | Python Insecticide Cattle Ear Tag | Piperonyl butoxide; Zeta-Cypermethrin.
MT110001 | 59639 | Metconazole 50 WDG Fungicide | Metconazole.
MT960001 | 7969 | Basagran Herbicide | Sodium bentazon.
NC070003 | 59639 | Select Max Herbicide in Inside Technology | Clethodim.
NC110004 | 100 | Ridomil Gold SL | Metalaxyl-M.
NC120011 | 241 | Prowl H2O Herbicide | Pendimethalin.
NC130003 | 5481 | Vapam HL Soil Fumigant | Metam-sodium.
NC830009 | 5481 | Zeneca Vapam 4-S Soil Fumigant Solution | Metam-sodium.
ND030007 | 50534 | Bravo Weatherstik | Chlorothalonil.
ND030008 | 50534 | Bravo ZN | Chlorothalonil.
ND170007 | 70506 | Super Tin 4L | Fentin hydroxide.
NE090001 | 50534 | Bravo 720 | Chlorothalonil.
NE090002 | 50534 | Bravo ZN | Chlorothalonil.
NJ110011 | 50534 | Bravo 720 | Chlorothalonil.
NM140002 | 34704 | Malathion 8 Aquamul | Malathion.
NV000004 | 100 | Fulfill | Pymetrozine.
NV110002 | 59639 | Valor Herbicide | Flumioxazin.
NY120011 | 7969 | Headline Fungicide | Pyraclostrobin.
NY120012 | 7969 | Bas 556 SC | Pyraclostrobin; Metconazole.
NY120013 | 7969 | Headline SC | Pyraclostrobin.
NY140004 | 7969 | Merivon Xemium Brand Fungicide | Pyraclostrobin; Fluxapyroxad.
NY140005 | 7969 | Priaxor Xemium Brand Fungicide | Pyraclostrobin; Fluxapyroxad.
NY170003 | 352 | Dupont Fexapan Herbicide | Dicamba, diglycolamine salt.
OH110005 | 100 | Ridomil Gold SL | Metalaxyl-M.
OK090002 | 39039 | Python Insecticide Cattle Ear Tag | Piperonyl butoxide; Zeta-Cypermethrin.
OR040004 | 100 | Fulfill | Pymetrozine.
OR040005 | 100 | Fulfill | Pymetrozine.
OR070018 | 66222 | Diazinon AG500 | Diazinon.
OR110004 | 7969 | Basf Poast Herbicide | Sethoxydim.
OR950033 | 7969 | Basagran Herbicide | Sodium bentazon.
OR990039 | 100 | Bravo 825 | Chlorothalonil.
OR990040 | 100 | Bravo 720 | Chlorothalonil.
SC120001 | 100 | Ridomil Gold SL | Metalaxyl-M.
SC960006 | 5481 | Vapam HL Soil Fumigant | Metam-sodium.
SD110003 | 39039 | Python Insecticide Cattle Ear Tag | Piperonyl butoxide; Zeta-Cypermethrin.
SD120001 | 7969 | Optill Pro Powered by Kixor Herbicide | Imazethapyr; Saflufenacil.
TN050001 | 5481 | Orthene 97 | Acephate.
TN110002 | 100 | Ridomil Gold SL | Metalaxyl-M.
TN130008 | 34704 | Tombstone | Cyfluthrin.
TX930007 | 59639 | Cobra Herbicide | Lactofen.
TX930023 | 59639 | Valent Bolero 8 EC | Thiobencarb.
TX980004 | 5481 | Orthene Turf, Tree & Ornamental Spray B WSP | Acephate.
UT000010 | 100 | Fulfill | Pymetrozine.
UT090001 | 8033 | Assail 70WP Insecticide | Acetamiprid.
UT120030 | 100 | Gramoxone SL 2.0 | Paraquat dichloride.
UT990004 | 352 | Vydate L Insecticide/Nematicide | Oxamyl.
UT990005 | 5481 | Dibrom 8 Emulsive | Naled.
VA050004 | 70506 | Waylay 3.2 AG Permethrin Insecticide | Permethrin.
VA110002 | 100 | Ridomil Gold SL | Metalaxyl-M.
WA000016 | 100 | Fulfill | Pymetrozine.
WA000017 | 100 | Fulfill | Pymetrozine.
WA110004 | 66330 | ARY 0454-105 Suspension Concentrate Herbicide | Flucarbazone-sodium.
WA120011 | 59639 | Valor Herbicide | Flumioxazin.
WA130007 | 100 | Fusilade II Turf and Ornamental Herbicide | Fluazifop-P-butyl.
WA900005 | 34704 | Clean Crop Simazine 4L Flowable Herbicide | Simazine.
WA900012 | 7969 | Basagran | Sodium bentazon.
WI130009 | 50534 | Bravo 825 Agricultural Fungicide | Chlorothalonil.
WI130010 | 50534 | Bravo 720 | Chlorothalonil.
WI130011 | 50534 | Bravo ZN | Chlorothalonil.
WI130013 | 50534 | Bravo 720 | Chlorothalonil.

Table 2 of this unit includes the names and addresses of record for all registrants of the products in Table 1 of this unit, in sequence by EPA company number. This number corresponds to the first part of the EPA registration numbers of the products listed in this unit.

Table 2—Registrants Requesting Voluntary Cancellation
EPA Company No. | Company name and address
100 | Syngenta Crop Protection, LLC, P.O. Box 18300, Greensboro, NC 27419.
228 | Nufarm Americas, Inc., 4020 Aerial Center Parkway, Suite 101, Morrisville, NC 27560.
241 | BASF Corporation, P.O. Box 13528, Research Triangle Park, NC 27709.
264 | Bayer Cropscience LP, P.O. Box 12014, Research Triangle Park, NC 27709.
270 | Farnam Companies, Inc., 1501 E Woodfield Road, Suite 200 West, Shaumburg, IL 60173.
352 | E. I. Du Pont de Nemours and Company, Chestnut Run Plaza, 974 Centre Road, Wilmington, DE 19805.
400 | MacDermid Agricultural Solutions, Inc., c/o Arysta Lifescience North America, LLC, 15401 Weston Parkway, Suite 150, Cary, NC 27513.
432 | Bayer Environmental Science, A Division of Bayer Cropscience LP, P.O. Box 12014, Research Triangle Park, NC 27709.
875 | Diversey, Inc., 1410 Newman Road, Racine, WI 53406.
1015 | Pyxis Regulatory Consulting, Inc., Agent for Douglas Products and Packaging Co., 4110 136th Street CT NW, Gig Harbor, WA 98332.
2596 | The Hartz Mountain Corporation, 400 Plaza Drive, Secaucus, NJ 07094.
2724 | Wellmark International, 1501 E Woodfield Road, Suite 200 West, Shaumburg, IL 60173.
3862 | ABC Compounding Co., Inc., P.O. Box 80729, Conyers, GA 30013.
5383 | Troy Chemical Corp., c/o Troy Corporation, 8 Vreeland Road, Florham Park, NJ 07932.
5481 | AMVAC Chemical Corporation, 4695 MacArthur Court, Suite 1200, Newport Beach, CA 92660.
5736 | Diversey, Inc., 1410 Newman Road, Racine, WI 53406.
5813 | The Clorox Co., c/o PS&RC, P.O. Box 493, Pleasanton, CA 94566.
7173 | Liphatech, Inc., 3600 W Elm Street, Milwaukee, WI 53209.
7969 | BASF Corporation, Agricultural Products, P.O. Box 13528, Research Triangle Park, NC 27709.
8033 | Nisso America Inc., Agent for Nippon Soda Co., Ltd., 88 Pine Street, 14th Floor, New York, NY 10005.
9198 | The Andersons, Inc., P.O. Box 119, Maumee, OH 43537.
10163 | Gowan Company, P.O. Box 5569, Yuma, AZ 85366.
11556 | Bayer Healthcare LLC, Animal Health Division, P.O. Box 390, Shawnee Mission, KS 66201.
28293 | Phaeton Corp., d/b/a Unicorn Laboratories, 1501 E Woodfield Road, Suite 200 West, Schaumburg, IL 60173.
34704 | Loveland Products, Inc., P.O. Box 1286, Greeley, CO 80632.
39039 | Y-Tex Corporation, 1825 Big Horn Avenue, Cody, WY 82414.
50534 | GB Biosciences, LLC, P.O. Box 18300, Greensboro, NC 27419.
53883 | Control Solutions, Inc., 5903 Genoa Red Bluff Road, Pasadena, TX 77507.
55146 | Nufarm Americas, Inc., 4020 Aerial Center Parkway, Suite 101, Morrisville, NC 27560.
59639 | Valent U.S.A. Corporation, 1600 Riviera Avenue, Suite 200, Walnut Creek, CA 94596.
60063 | Sipcam Agro USA, Inc., 2525 Meridian Pkwy., Suite 350, Durham, NC 27713.
66222 | Makhteshim Agan of North America, Inc., D/B/A Adama, 3120 Highwoods Blvd., Suite 100, Raleigh, NC 27604.
66330 | Arysta Lifescience North America, LLC, 15401 Weston Parkway, Suite 150, Cary, NC 27513.
67619 | Clorox Professional Products Company, c/o PS&RC, P.O. Box 493, Pleasanton, CA 94566.
68156 | Dintec Agrichemicals, LLC, 9330 Zionsville Road, Indianapolis, IN 46268.
69681 | Allchem Performance Products, 6010 NW First Place, Gainesville, FL 32607.
70506 | United Phosphorus, Inc., 630 Freedom Business Center, Suite 402, King of Prussia, PA 19406.
70627 | Diversey, Inc., 1410 Newman Road, Racine, WI 53406.
72155 | Bayer Advanced, A Business Unit of Bayer CropScience LP, 2 T.W. Alexander Drive, Research Triangle Park, NC 27709.
72304 | Sostram Corporation, 2525 Meridian Parkway, Suite 350, Durham, NC 27713.
83070 | Advan LLC, 2525 Meridian Parkway, Suite 350, Durham, NC 27713.
85588 | DuPont Crop Protection, Agent for Agsurf Corporation, Chestnut Run Plaza, 974 Center Road, Newark, DE 19805.

III. What is the Agency's authority for taking this action?

Section 6(f)(1) of FIFRA (7 U.S.C. 136d(f)(1)) provides that a registrant of a pesticide product may at any time request that any of its pesticide registrations be canceled. FIFRA further provides that, before acting on the request, EPA must publish a notice of receipt of any such request in the Federal Register. EPA will provide a 30-day comment period on the proposed requests. Thereafter, the EPA Administrator may approve such a request.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products until January 15, 2019, or the date of that the cancellation notice is published in the Federal Register, whichever is later. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: October 1, 2018.
Delores Barber,
Director, Information Technology and Resources Management Division, Office of Pesticide Programs.

[FR Doc. 2018-22860 Filed 10-18-18; 8:45 am]

BILLING CODE 6560-50-P